ENVIRONMENTAL PROTECTION AGENCY

[FRL-8902-5]

Notice of Proposed Administrative Settlement Pursuant to the Comprehensive Environmental Response, Compensation, and Liability Act; Anaconda Copper Site

AGENCY: Environmental Protection Agency.

ACTION: Notice, request for public comments.

SUMMARY: In accordance with Section 122(i) of the Comprehensive Environmental Response, Compensation, and Liability Act (“CERCLA”), as amended, 42 U.S.C. 9622(i), notice is hereby given of a proposed Administrative Order on Consent and Settlement Agreement for Removal Action and Past Response Costs (“Agreement,” Region 9 Docket No. 9-2009-10) pursuant to Section 122(h) of CERCLA concerning the Anaconda Copper Mine Site (the “Site”), located in Yerington, Nevada. The settling party is Atlantic Richfield Company (“ARC”). Through the proposed Agreement, ARC will pay to the United States $2.2 million for response costs at the Site, and will conduct approximately $8 million in interim removal actions to mitigate threats from hazardous substances. The response actions that ARC will perform include: Installing caps over former evaporation ponds to help prevent accumulation of acidic ponds and to prevent the migration of hazardous dusts; mitigating threats from soils that contain concentrated amounts of otherwise naturally occurring radiation; removing abandoned asbestos containing pipes; decommissioning abandoned electrical lines; and continuing operation and maintenance of the fluid management system for abandoned heap leach facilities. The Agreement provides ARC with a covenant not to sue and contribution protection for the work performed at the Site, and for the response costs paid.

For thirty (30) days following the date of publication of this Notice, the Agency will receive written comments relating to the proposed Agreement. The administrative record and the Agency's response to any comments received will be available for public inspection at EPA's Region IX Superfund Records Center, located at 95 Hawthorne Street, San Francisco, California 94105.

DATES: Comments must be submitted on or before June 8, 2009.

ADDRESSES: The proposed Agreement may be obtained from the EPA Region IX Superfund Records Center, at 95 Hawthorne Street, San Francisco, California 94105 ((415) 536-2000). Comments regarding the proposed Agreement should be addressed to Andrew Helmlinger at the U.S. Environmental Protection Agency (ORC-3), 75 Hawthorne Street, San Francisco, California 94105, and should reference the Anaconda Copper Agreement, and Region IX Docket No. 9-2009-10.

FOR FURTHER INFORMATION CONTACT: Andrew Helmlinger, Office of Regional Counsel, (415) 972-3904, U.S. Environmental Protection Agency, Region 9, 75 Hawthorne Street, San Francisco, CA 94105.

Dated: April 22, 2009.
Keith A. Takata,
Director, Superfund Division.

[FR Doc. E9-10764 Filed 5-7-09; 8:45 am]

BILLING CODE 6560-50-P